DEPARTMENT OF HEALTH AND HUMAN SERVICES

Centers for Medicare and Medicaid Services

[Document Identifier: CMS-368/R144, CMS-R-240, and CMS-566]

Agency Information Collection Activities: Proposed Collection; Comment Request

AGENCY: Centers for Medicare and Medicaid Services.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

(1) Type of Information Collection Request: Extension of a currently approved collection; Title of Information Collection: Medicaid Drug Rebate; Form No.: CMS-368/R144 (OMB# 0938-0582); Use: Section 1927 requires State Medicaid agencies to report to drug manufacturers and CMS on the drug utilization for their State and the amount of rebate to be paid by the manufacturer; Frequency: Quarterly; Affected Public: State, local, or tribal government; Number of Respondents: 51; Total Annual Responses: 204; Total Annual Hours: 6,125.

(2) Type of Information Collection Request: Extension of a currently approved collection; Title of Information Collection: Prospective Payments for Hospital Outpatient Services and Supporting Regulations in 42 CFR 413.24, 413.65, and 419.42; Form No.: CMS-R-240 (OMB# 0938-0798); Use: As required by sections 4521, 4522, and 4523 of the Balanced Budget Act of 1997, HCFA-1005FC eliminates the formula driven overpayment for certain outpatient hospital services, extends reductions in payment for costs of hospital outpatient services, and establishes in regulations a prospective payment system for hospital outpatient services. The rule also establishes in regulations the requirements for designating certain entities as provider-based or as a department of a hospital; Frequency: Other—as needed; Affected Public: Business or other for-profit, and Not-for-profit institutions; Number of Respondents: 750; Total Annual Responses: 2,272; Total Annual Hours: 41,063.

(3) Type of Information Collection Request: Extension of a currently approved collection; Title of Information Collection: Medicare Managed Care Disenrollment Form; Form No.: CMS-566 (0938-0507); Use: This form provides Medicare beneficiaries the option to disenroll from their Medicare managed care plan through a neutral third party. CMS and SSA have established an agreement via a formal Memorandum of Understanding for SSA to process beneficiary disenrollments from Medicare managed care plans. Prior to 1999, the Social Security Act provided Medicare beneficiaries enrolled in Medicare managed care plans with the option of disenrolling from the plan at a Social Security Field Office; however, section 4001 of the Balanced Budget Act of 1997 amended the Social Security Act, removing this requirement from the statute; Frequency: On Occasion; Affected Public: Individuals or Households, Business or other for-profit, Not-for-profit institutions, and Federal Government; Number of Respondents: 85,000; Total Annual Responses: 85,000; Total Annual Hours: 2,805.

To obtain copies of the supporting statement and any related forms for the proposed paperwork collections referenced above, access CMS's Web site address at http://cms.hhs.gov/regulations/pra/default.asp, or E-mail your request, including your address, phone number, OMB number, and CMS document identifier, to Paperwork@hcfa.gov, or call the Reports Clearance Office on (410) 786-1326. Written comments and recommendations for the proposed information collections must be mailed within 60 days of this notice directly to the CMS Paperwork Clearance Officer designated at the following address: CMS, Office of Strategic Operations and Regulatory Affairs, Division of Regulations Development and Issuances, Attention: Dawn Willinghan, Room N2-14-26, 7500 Security Boulevard, Baltimore, Maryland 21244-1850.

Dated: March 6, 2003.
John P. Burke, III,
Paperwork Reduction Act Team Leader, CMS Reports Clearance Officer, Office of Strategic Operations and Strategic Affairs, Division of Regulations Development and Issuances.

[FR Doc. 03-6139 Filed 3-13-03; 8:45 am]

BILLING CODE 4120-03-P